SMALL BUSINESS ADMINISTRATION

[Disaster Declaration # 10804]

Oklahoma Disaster Number OK-00010

AGENCY: U.S. Small Business Administration.

ACTION: Amendment 1.

SUMMARY: This is an amendment of the Presidential declaration of a major disaster for Public Assistance Only for the State of Oklahoma (FEMA-1678-DR), dated 02/01/2007.

Incident: Severe Winter Storms.

Incident Period: 01/12/2007 through 01/26/2007.

Effective Date: 02/21/2007.

Physical Loan Application Deadline Date: 04/02/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oklahoma, dated 02/01/2007, is hereby amended to include the following areas as adversely affected by the disaster.

Primary Counties:

Alfalfa, Canadian, Comanche, Dewey, Garvin, Grant, Greer, Jackson, Jefferson, Kay, Lincoln, Osage, Pontotoc, Pottawatomie, Rogers, Tillman, Tulsa, Washington, Washita, Woods

All other information in the original declaration remains unchanged.

(Catalog of Federal Domestic Assistance Number 59008)

Herbert L. Mitchell,
Associate Administrator for Disaster Assistance.

[FR Doc. E7-3708 Filed 3-1-07; 8:45 am]

BILLING CODE 8025-01-P